DEPARTMENT OF THE TREASURY

Office of Foreign Assets Control

Unblocking of Specially Designated Nationals and Blocked Persons Pursuant to Executive Order 12978

AGENCY: Office of Foreign Assets Control, Treasury.

ACTION: Notice.

SUMMARY: The Treasury Department's Office of Foreign Assets Control (“OFAC”) is publishing the names of thirteen individuals whose property and interests in property have been unblocked pursuant to Executive Order 12978 of October 21, 1995, Blocking Assets and Prohibiting Transactions With Significant Narcotics Traffickers.

DATES: The unblocking and removal from the list of Specially Designated Nationals and Blocked Persons (“SDN List”) of the individuals identified in this notice whose property and interests in property were blocked pursuant to Executive Order 12978 of October 21, 1995, is effective on April 16, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On April 16, 2010, OFAC removed from the SDN List the individuals listed below, whose property and interests in property were blocked pursuant to the Order:

1. FAVARONY URREA, Pedro F., c/o COPSERVIR LTDA., Bogota, Colombia; Cedula No. 167136671 (Colombia) (individual) [SDNT].

2. MOGOLLON RUEDA, Eduardo, c/o ALFA PHARMA S.A., Bogota, Colombia; c/o INVERSIONES RODRIGUEZ MORENO Y CIA. S. EN C., Cali, Colombia; c/o DEPOSITO POPULAR DE DROGAS S.A., Cali, Colombia; c/o DISTRIBUIDORA DE DROGAS CONDOR LTDA., Bogota, Colombia; DOB 5 Feb 1953; Cedula No. 19194691 (Colombia) (individual) [SDNT].

3. ALMANZA BARRAZA, Alfonso Rafael, c/o CAJA SOLIDARIA, Bogota, Colombia; c/o COPSERVIR LTDA., Bogota, Colombia; c/o LITOPHARMA, Barranquilla, Colombia; Carrera 35 No. 43-62, Barranquilla, Colombia; Cedula No. 72206138 (Colombia) (individual) [SDNT].

4. CALDERON ASCANIO, Reynaldo (a.k.a. CALDERON ASCANIO, Reinaldo), c/o COOPERATIVA DE TRABAJO ASOCIADO ACTIVAR, Bogota, Colombia; c/o COOPIFARMA, Bucaramanga, Colombia; c/o MEGAPHARMA LTDA., Bogota, Colombia; Calle 54 No. 23-10, Bucaramanga, Colombia; DOB 12 Jun 1978; Cedula No. 13541010 (Colombia) (individual) [SDNT].

5. DAVILA RAMIREZ, Oscar Julio, c/o COMERCIALIZADORA INTERTEL S.A., Cali, Colombia; c/o COPSERVIR LTDA., Bogota, Colombia; c/o CREDIREBAJA S.A., Cali, Colombia; c/o DISTRIBUIDORA MIGIL CALI S.A., Cali, Colombia; c/o PROSALUD Y BIENSTAR S.A., Cali, Colombia; Cedula No. 16677937 (Colombia) (individual) [SDNT].

6. GALVEZ RODRIGUEZ, Nancy, c/o CAJA SOLIDARIA, Bogota, Colombia; c/o COPSERVIR LTDA., Bogota, Colombia; c/o COSMEPOP, Bogota, Colombia; c/o DISTRIBUIDORA DE DROGAS CONDOR S.A., Bogota, Colombia; c/o COOPCREAR, Bogota, Colombia; DOB 2 Dec 1954; Cedula No. 41703406 (Colombia); Passport 41703406 (Colombia) (individual) [SDNT].

7. NAVARRO REYES, Fernando, c/o DROGAS LA REBAJA BARRANQUILLA S.A., Barranquilla, Colombia; c/o DROGAS LA REBAJA CALI S.A., Cali, Colombia; c/o DROGAS LA REBAJA BOGOTA S.A., Bogota, Colombia; c/o DROGAS LA REBAJA PEREIRA S.A., Pereira, Colombia; c/o DROGAS LA REBAJA PRINCIPAL S.A., Bogota, Colombia; c/o DEPOSITO POPULAR DE DROGAS S.A., Cali, Colombia; c/o DROGAS LA REBAJA NEIVA S.A., Neiva, Colombia; c/o SERVICIOS FARMACEUTICOS SERVIFAR S.A., Cali, Colombia; c/o DISTRIBUIDORA DEL VALLE E.U., Cali, Colombia; Cedula No. 16616177 (Colombia); Passport 16616177 (Colombia) (individual) [SDNT].

8. ARIAS RAMIREZ, Jhon Helmer, c/o IMPORTADORA Y COMERCIALIZADORA LTDA., Cali, Colombia; DOB 20 Jan 1972; Cedula No. 16796537 (Colombia) (individual) [SDNT].

9. VICTORIA CASTANO, Alvaro, Carrera 3A Norte No. 42A-43, Cali, Colombia; c/o CREDISA S.A., Cali, Colombia; Cedula No. 14933828 (Colombia); Passport 14933828 (Colombia) (individual) [SDNT].

10. GARCIA DUQUE, Gustavo, Carrera 4 No. 12-20 of. 206, Cartago, Valle, Colombia; c/o INMOBILIARIA EL ESCORIAL LTDA., Cartago, Valle, Colombia; c/o INMOBILIARIA LINARES LTDA., Cartago, Valle, Colombia; DOB 30 Jun 1961; Cedula No. 16213736 (Colombia); Passport 16213736 (Colombia) (individual) [SDNT].

11. CARDONA GARCIA, Diomiro, Carrera 1 No. 12-53, Cartago, Valle, Colombia; Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; c/o VISCAYA LTDA., Cartago, Valle, Colombia; Cedula No. 6233272 (Colombia); Passport 6233272 (Colombia) (individual) [SDNT].

12. GARCIA GARCIA, Gabriel Alfonso, Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; DOB 7 Jun 1976; Cedula No. 16230989 (Colombia); Passport 16230989 (Colombia) (individual) [SDNT].

13. DURAN RAMIREZ, Pompilio, c/o VISCAYA LTDA., Cartago, Valle, Colombia; Carrera 4 No. 12-20 of. 206, Cartago, Valle, Colombia; c/o AGRICOLA DOIMA DEL NORTE DEL VALLE LTDA., Cartago, Valle, Colombia; c/o GANADERIA EL VERGEL LTDA., Cartago, Valle, Colombia; c/o GANADERIAS BILBAO LTDA., Cartago, Valle, Colombia; c/o INMOBILIARIA EL ESCORIAL LTDA., Cartago, Valle, Colombia; c/o INMOBILIARIA LINARES LTDA., Cartago, Valle, Colombia; c/o INMOBILIARIA PASADENA LTDA., Cartago, Valle, Colombia; c/o ORGANIZACION LUIS HERNANDO GOMEZ BUSTAMANTE Y CIA. S.C.S., Cartago, Valle, Colombia; Cedula No. 2534945 (Colombia); Passport 2534945 (Colombia) (individual) [SDNT].

Dated: April 16, 2010.
Barbara C. Hammerle,
Acting Director, Office of Foreign Assets Control.

[FR Doc. 2010-9249 Filed 4-21-10; 8:45 am]

BILLING CODE 4810-AL-P